FARM CREDIT ADMINISTRATION

12 CFR Parts 614, 620, and 630

RIN 3052-AC07

Loan Policies and Operations; Disclosure to Shareholders; Disclosure to Investors in Systemwide and Consolidated Bank Debt Obligations of the Farm Credit System; Effective Date

AGENCY: Farm Credit Administration.

ACTION: Final rules; notice of effective date.

SUMMARY: The Farm Credit Administration (FCA) published a final rule under parts 614, 620, 630 on March 30, 2004 (69 FR 16460). This final rule amends our regulations governing the Farm Credit System's (System) mission to provide sound and constructive credit and services to young, beginning, and small farmers and ranchers and producers or harvesters of aquatic products (YBS). Additionally, with this final rule, the agency amends the System's disclosure to shareholders and investors to include reporting on its service to YBS farmers and ranchers. In accordance with 12 U.S.C. 2252, the effective date of the interim final rule is 30 days from the date of publication in the Federal Register during which either or both Houses of Congress are in session. Based on the records of the sessions of Congress, the effective date of the regulations is May 10, 2004.

DATES: Effective Date: The regulation amending 12 CFR parts 614, 620, 630 published on March 30, 2004 (69 FR 16460) is effective May 10, 2004.

FOR FURTHER INFORMATION CONTACT: Robert E. Donnelly, Senior Accountant, Office of Policy and Analysis, Farm Credit Administration, McLean, VA 22102-5090, (703) 883-4498, TTY (703) 883-4434; or Wendy R. Laguarda, Senior Counsel, Office of General Counsel, Farm Credit Administration, McLean, VA 22102-5090, (703) 883-4020, TTY (703) 883-2020.

(12 U.S.C. 2252(a)(9) and (10))

Dated: May 11, 2004.
Jeanette C. Brinkley,
Secretary, Farm Credit Administration Board.

[FR Doc. 04-11025 Filed 5-13-04; 8:45 am]

BILLING CODE 6705-01-P